DEPARTMENT OF THE INTERIOR

Bureau of Indian Affairs

Land Acquisitions; Tonkawa Tribe of Oklahoma

AGENCY: Bureau of Indian Affairs, Interior.

ACTION: Notice of final agency determination.

SUMMARY: The Assistant Secretary—Indian Affairs made a final agency determination to acquire approximately 127.65 acres of land in trust for the Tonkawa Tribe of Oklahoma on December 6, 2012.

FOR FURTHER INFORMATION CONTACT: Paula L. Hart, Director, Office of Indian Gaming, Bureau of Indian Affairs, MS-3657 MIB, 1849 C Street NW., Washington, DC 20240; Telephone (202) 219-4066.

SUPPLEMENTARY INFORMATION: This notice is published in the exercise of authority delegated by the Secretary of the Interior to the Assistant Secretary—Indian Affairs by 209 Departmental Manual 8.1, and is published to comply with the requirements of 25 CFR 151.12(b) that notice be given to the public of the Secretary's decision to acquire land in trust at least 30 days prior to signatory acceptance of the land in trust. On December 6, 2012, the Assistant Secretary—Indian Affairs decided to accept approximately 127.65 acres of land into trust for the Tonkawa Tribe of Oklahoma under the authority of the Indian Reorganization Act of 1934, 25 U.S.C. 465, described as:

The 127.65 acres are located approximately 6 miles from the tribal headquarters in Kay County, Oklahoma, and described as follows:

A tract of land in the Northwest Quarter of Section 31, Township 26 North, Range 1 West of the Indian Meridian, Kay County, State of Oklahoma and more particularly described as follows:

Beginning at the Northwest corner of said Northwest Quarter of Section 31, Township 26 North, Range 1 West; thence North 89 deg. 02 min. 51 sec. East along the North line of said Section 31, for A distance of 800 feet; thence South 0 deg. 57 min.09 sec. East 430 feet; thence North 89 deg. 02 min. 51 sec. East, 1423.15 (Measured) feet to a point on the West right of way line of Interstate Highway 35; thence South 14 deg. 10 min. 32 sec. East, 687.71 feet along said West right of way line; thence South 14 deg. 10 min. 32 sec. East, 687.71 feet along said West right of way line; thence South 0 deg. 46 min. 24 sec. East, 1540.52 along said West right of way line to the intersection with the South line of the Northwest Quarter of said Section 31; thence South 89 deg. 03 min. 54. sec. West along the South line of said Northwest Quarter of said Section 31, 2385.25 (Measured) feet to the Southwest corner of said Northwest Quarter of Section 31; thence, North 0 deg. 44 min. 38 sec. West along the West line of said Northwest Quarter of Section 31, 2639.27 (Measured) feet to the true point of beginning.

Dated: December 6, 2012.
Kevin K. Washburn,
Assistant Secretary—Indian Affairs.

[FR Doc. 2012-29972 Filed 12-13-12; 11:15 am]

BILLING CODE 4310-4N-P